OFFICE OF PERSONNEL MANAGEMENT

5 CFR Parts 581 and 582

RIN 3206-AO41

Processing Garnishment Orders for Child Support and/or Alimony and Commercial Garnishment of Federal Employees' Pay

AGENCY: Office of Personnel Management.

ACTION: Final rule.

SUMMARY: The Office of Personnel Management (OPM) is amending the rules for processing garnishment orders for child support and/or alimony (“support regulations”) and the rules for processing commercial garnishment orders. This rule amends both the support regulations and the commercial garnishment regulations to update the list of agents designated to accept legal process under the relevant appendices of our regulations and deletes a duplicative reference.

DATES: This rule is effective June 20, 2023.

FOR FURTHER INFORMATION CONTACT: Melanie Watson by telephone at (202) 606-1700 or by email at ogcatty@opm.gov.

SUPPLEMENTARY INFORMATION: OPM has been advised by various agencies of the need for amendments to the list of agents designated to receive legal process under 5 CFR part 581, appendix A, and 5 CFR part 582, appendix A. This rule updates the list of agents and deletes a duplicate reference in 5 CFR part 582, appendix A, that is already listed under 5 CFR part 581, appendix A, with respect to how to serve Navy Exchange Service Command non-appropriated fund employees.

Executive Order 12866 and Regulatory Impact Analysis

This rule has been determined to be significant, but not economically significant, for the purposes of Executive Order 12866 and therefore has been reviewed by the Office of Management and Budget. This rule only makes administrative changes to the listing of designated agents for agencies for ease, clarity, and transparency, and therefore does not have economically significant effects.

Regulatory Flexibility Act

OPM certifies that this rule will not have a significant economic impact on a substantial number of small entities as this rule only applies to Federal agencies and employees.

Federalism

OPM has examined this rule in accordance with Executive Order 13132, Federalism, and has determined that this rule will not have any negative impact on the rights, roles, and responsibilities of State, local, or tribal governments.

Civil Justice Reform

This regulation meets the applicable standard set forth in Executive Order 12988.

Unfunded Mandates Act of 1995

This rule will not result in the expenditure by state, local, and tribal governments, in the aggregate, or by the private sector, of $100 million or more in any year and it will not significantly or uniquely affect small governments. Therefore, no actions were deemed necessary under the provisions of the Unfunded Mandates Reform Act of 1995.

Paperwork Reduction Act

This rule does not impose any new reporting or record-keeping requirements subject to the Paperwork Reduction Act.

List of Subjects in 5 CFR Parts 581 and 582

Alimony, Child support, Claims, Government employees, Wages.

U.S. Office of Personnel Management.
Stephen Hickman,
Federal Register Liaison.

Accordingly, OPM amends 5 CFR parts 581 and 582 as follows:

PART 581—PROCESSING GARNISHMENT ORDERS FOR CHILD SUPPORT AND/OR ALIMONY

1. The authority citation for part 581 continues to read as follows:

Authority: 42 U.S.C. 659; 15 U.S.C. 1673; E.O. 12105 (43 FR 59465 and 3 CFR 262)(1979). Secs. 581.102 and 581.306 also issued under 5 U.S.C. 8336a and 8412a.

2. Appendix A to part 581 is revised to read as follows:

Appendix A to Part 581—List of Agents Designated To Accept Legal Process

[This appendix lists the agents designated to accept legal process for the Executive Branch of the United States, the United States Postal Service, the Postal Regulatory Commission, the District of Columbia, American Samoa, Guam, the Virgin Islands, and the Smithsonian Institution.]

I. Departments

Department of Agriculture

Office of the Secretary: USDA, Office of Human Resources Management—Executive Resources, 1400 Independence Ave. SW, Room 318 W, Whitten Bldg., Washington, DC 20250-1400, (202) 720-0027.

Farm Production and Conservation: FPAC-BC, WDC (NHQ), Attn: FPAC HRD—Room 3223S, 1400 Independence Ave. SW, Washington, DC 20250, 855-344-4793, 833-528-1259 (fax).

Farm Service Agency: FPAC-BC, WDC (NHQ), Attn: FPAC HRD—Room 3223S, 1400 Independence Ave. SW, Washington, DC 20250, 855-344-4793, 833-528-1259 (fax).

Natural Resources Conservation Service: FPAC-BC, WDC (NHQ), Attn: FPAC HRD—Room 3223S, 1400 Independence Ave. SW, Washington, DC 20250, 855-344-4793, 833-528-1259 (fax).

Risk Management Agency: FPAC-BC, WDC (NHQ), Attn: FPAC HRD—Room 3223S, 1400 Independence Ave. SW, Washington, DC 20250, 855-344-4793, 833-528-1259 (fax).

FPAC Business Center: FPAC-BC, WDC (NHQ), Attn: FPAC HRD—Room 3223S, 1400 Independence Ave. SW, Washington, DC 20250, 855-344-4793, 833-528-1259 (fax).

Food, Nutrition, and Consumer Services: Director, Human Resources Division, Food, Nutrition and Consumer Services, 1320 Braddock Pl., Alexandria, VA 22314, (844) 208-2364.

Food Safety and Inspection Service: Chief, Financial Services, Food Safety and Inspection Service, 4520 114th Street, Urbandale, IA 50322, (833) 643-2258 or FSCGeneral@usda.gov.

Marketing and Regulatory Programs: Chief, Human Resources, USDA, APHIS, 250 Marquette Avenue, Suite 410, Minneapolis, MN 55401, (612) 336-3317.

Agricultural Marketing Services: Chief, Human Resources, USDA, APHIS, 250 Marquette Avenue, Suite 410, Minneapolis, MN 55401, (612) 336-3317.

Agricultural Marketing Service—Milk Marketing Administration: Personnel Management Specialist, Agricultural Marketing Service, DA, Room 2548—South Bldg., Mail Stop 0228, 1400 Independence Ave. SW, Washington, DC 20250-0228, (202) 690-0212.

Animal and Plant Health Inspection Service: Chief, Human Resources, USDA, APHIS, 250 Marquette Avenue, Suite 410, Minneapolis, MN 55401, (612) 336-3317.

Forest Service: U.S. Forest Service, Human Resources Management, Attn: Pay and Leave, 4000 Masthead Street NE, Albuquerque, NM 87109, 877-372-7248.

Research, Education, and Economics: Agricultural Research Service, Human Resources Division, 5601 Sunnyside Ave., Room 2-WS-1515, Stop—5101, Beltsville, MD 20705-5101, (301) 504-1357.

Agricultural Research Service: Human Resources Division, 5601 Sunnyside Ave., Room 2-WS-1515, Stop—5101, Beltsville, MD 20705-5101, (301) 504-1357.

Economic Research Service: Agricultural Research Service, Human Resources Division, 5601 Sunnyside Ave., Room 2-WS-1515, Stop—5101, Beltsville, MD 20705-5101, (301) 504-1357.

National Agricultural Statistics Service: Agricultural Research Service, Human Resources Division, 5601 Sunnyside Ave., Room 2-WS-1515, Stop—5101, Beltsville, MD 20705-5101, (301) 504-1357.

National Institute of Food and Agriculture: Agricultural Research Service, Human Resources Division, 5601 Sunnyside Ave., Room 2-WS-1515, Stop—5101, Beltsville, MD 20705-5101, (301) 504-1357.

Office of the Chief Scientist: U.S. Department of Agriculture, 1400 Independence Ave. SW, Office of Human Resources Management, Room 318W, Washington, DC 20250, (202) 302-9509.

Rural Development: Human Resources Office, 1400 Independence Ave. SW, Mail Stop 0730, Washington, DC 20250, (202) 720-2278.

Rural Business—Cooperative Service: Human Resources Office, 1400 Independence Ave. SW, Mail Stop 0730, Washington, DC 20250, (202) 720-2278.

Rural Housing Service: Human Resources Office, 1400 Independence Ave. SW, Mail Stop 0730, Washington, DC 20250, (202) 720-2278.

Rural Utilities Service: Human Resources Office, 1400 Independence Ave. SW, Mail Stop 0730, Washington, DC 20250, (202) 720-2278.

Rural Development Business Center: Human Resources Office, 1400 Independence Ave. SW, Mail Stop 0730, Washington, DC 20250, (202) 720-2278.

Trade and Foreign Agricultural Affairs: Human Capital Management Division, 1400 Independence Ave. SW, Room 5071, Mail Stop 1001, Washington, DC 20250.

Foreign Agricultural Service: Human Capital Management Division, 1400 Independence Ave. SW, Room 5071, Mail Stop 1001, Washington, DC 20250.

Office of Budget and Program Analysis: USDA, Office of Human Resources Management—Payroll, 1400 Independence Ave. SW, Room 318 W, Whitten Bldg., Washington, DC 20250-1400, (202) 720-4175, HROperationspayroll@usda.gov.

Office of the Chief Economist: USDA, Office of Human Resources Management—Payroll, 1400 Independence Ave. SW, Room 318 W, Whitten Bldg., Washington, DC 20250-1400, (202) 720-4175, HROperationspayroll@usda.gov.

Office of the Chief Financial Officer: USDA, Office of the Chief Financial Officer, 13800 Old Gentilly Road, Modular Bldg. H-8, New Orleans, LA 70129, ocfo.fms.hr.services@usda.gov.

Office of the Chief Information Officer: USDA, Office of Human Resources Management—Payroll, 1400 Independence Ave. SW, Room 318 W, Whitten Bldg., Washington, DC 20250-1400, (202) 720-4175, HROperationspayroll@usda.gov.

Office of Civil Rights: USDA, Office of Human Resources Management—Payroll, 1400 Independence Ave. SW, Room 318 W, Whitten Bldg., Washington, DC 20250-1400, (202) 720-4175, HROperationspayroll@usda.gov.

Office of Communications: USDA, Office of Human Resources Management—Payroll, 1400 Independence Ave. SW, Room 318 W, Whitten Bldg., Washington, DC 20250-1400, (202) 720-4175, HROperationspayroll@usda.gov.

Office of the General Counsel: USDA, Office of Human Resources Management—Payroll, 1400 Independence Ave. SW, Room 318 W, Whitten Bldg., Washington, DC 20250-1400, (202) 720-4175, HROperationspayroll@usda.gov.

Office of the General Counsel, Office of Ethics: USDA, Office of Human Resources Management—Payroll, 1400 Independence Ave. SW, Room 318 W, Whitten Bldg., Washington, DC 20250-1400, (202) 720-4175, HROperationspayroll@usda.gov.

Office of Hearings and Appeals: USDA, Office of the Chief Financial Officer, 13800 Old Gentilly Road, Modular Bldg. H-8, New Orleans, LA 70129, ocfo.fms.hr.services@usda.gov.

Office of Homeland Security: USDA, Office of Human Resources Management—Payroll, 1400 Independence Ave. SW, Room 318 W, Whitten Bldg., Washington, DC 20250-1400, (202) 720-4175, HROperationspayroll@usda.gov.

Counsel to the Inspector General, Office of Inspector General: USDA, Whitten Buildinguiin1400 Independence Avenue SW, STOP 2308, Room 441-E, Washington, DC 20250-2308, (202) 720-9110.

Office of Partnerships and Public Engagement: USDA, Office of Human Resources Management—Payroll, 1400 Independence Ave. SW, Room 318 W, Whitten Bldg., Washington, DC 20250-1400, (202) 720-4175, HROperationspayroll@usda.gov.

Office of Small and Disadvantaged Business Utilization: USDA, Office of Human Resources Management—Payroll, 1400 Independence Ave. SW, Room 318 W, Whitten Bldg., Washington, DC 20250-1400, (202) 720-4175, HROperationspayroll@usda.gov.

Departmental Administration: USDA, Office of Human Resources Management—Payroll, 1400 Independence Ave. SW, Room 318 W, Whitten Bldg., Washington, DC 20250-1400, (202) 720-4175, HROperationspayroll@usda.gov.

Office of Contracting and Procurement: USDA, Office of Human Resources Management—Payroll, 1400 Independence Ave. SW, Room 318 W, Whitten Bldg., Washington, DC 20250-1400, (202) 720-4175, HROperationspayroll@usda.gov.

Office of Customer Experience: USDA, Office of Human Resources Management—Payroll, 1400 Independence Ave. SW, Room 318 W, Whitten Bldg., Washington, DC 20250-1400, (202) 720-4175, HROperationspayroll@usda.gov.

Office of Human Resources Management: USDA, Office of Human Resources Management—Payroll, 1400 Independence Ave. SW, Room 318 W, Whitten Bldg., Washington, DC 20250-1400, (202) 720-4175, HROperationspayroll@usda.gov.

Office of Operations: USDA, Office of Human Resources Management—Payroll, 1400 Independence Ave. SW, Room 318 W, Whitten Bldg., Washington, DC 20250-1400, (202) 720-4175, HROperationspayroll@usda.gov.

Office of Property and Environmental Management: USDA, Office of Human Resources Management—Payroll, 1400 Independence Ave. SW, Room 318 W, Whitten Bldg., Washington, DC 20250-1400, (202) 720-4175, HROperationspayroll@usda.gov.

Office of Safety, Security, and Protection: USDA, Office of Human Resources Management—Payroll, 1400 Independence Ave. SW, Room 318 W, Whitten Bldg., Washington, DC 20250-1400, (202) 720-4175, HROperationspayroll@usda.gov.

Department of Commerce

1. Bureau of the Census, Bureau of Economic Analysis (BEA), and the Office of the Under Secretary for Economic Affairs (OUS/EA): For Census employee-obligors employed by Census headquarters in Suitland, Maryland; for BEA employee-obligors, and OUS/EA employee-obligors and serviced by Enterprise Services: Enterprise Services Human Resource Service Center, 8400 Corporate Drive, Suite 300, Landover, MD 20785, (888) 316-2285.

1.a. For employee-obligors employed by the Census National Processing Center and Tucson Telephone Center: Bureau of the Census, National Processing Center, ATTN: Chief, Employee and Labor Relations Section, Human Resources Branch, Bldg. 63A, Room 2, 1201 East 10th Street, Jeffersonville, IN 47132, (812) 218-3321, or by eFax at 812-218-3492.

b. For employee-obligors employed by the Census Regional Offices:

UPS and Fed Ex: Bureau of the Census, Human Resources Division ATTN: Chief, Information Services Branch, 4600 Silver Hill Road, Suitland, MD 20746, (301) 763-4748.

Certified Mail and USPS: Bureau of the Census, Human Resources Division ATTN: Chief, Information Services Branch, 4600 Silver Hill Rd., Washington, DC 20233, (301) 763-4748.

eFax: Bureau of the Census, HRD Call Center, 301-763-8466.

2. Patent and Trademark Office (PTO): Human Resources Manager, U.S. Patent and Trademark Office, Box 3, Washington, DC 20231, (703) 305-8221.

3. United States and Foreign Commercial Service (US&FCS): Personnel Officer, Office of Foreign Service Personnel, Room 3815, 14th Street & Constitution Avenue NW, Washington, DC 20230, (202) 482-3133.

4. International Trade Administration (ITA) (For employee-obligors of the Headquarters/Washington, DC offices only): Human Resources Manager, Personnel Management Division, Room 4809, 14th Street & Constitution Avenue NW, Washington, DC 20230, (202) 482-3438.

5. National Institute of Standards and Technology (NIST)and the National Technical Information Service (NTIS) (For NIST employee-obligors; for employee-obligors employed by NTIS): Personnel Officer, Office of Human Resources Management, Administration Building, Room A-123, Gaithersburg, MD 20899, (301) 975-3000.

6. Office of the Inspector General (OIG): Human Resources Manager, Resource Management Division, Room 7713, 14th Street & Constitution Avenue NW, Washington, DC 20230, (202) 482-4948.

7. National Oceanic and Atmospheric Administration (NOAA) (For employee-obligors in the Headquarters/Washington, DC; the Silver Spring and Camp Springs, MD; and the Sterling, VA offices only): Chief, Human Resources Services Division, NOAA, 1315 East-West Highway, Room 13619, Silver Spring, MD 20910, (301) 713-0524.

8. Office of the Secretary (O/S), Bureau of Industry and Security (BIS), Economic Development Administration (EDA), Minority Business Development Agency (MBDA), and National Telecommunications and Information Administration (NTIA) (For employee-obligors in Washington, DC metro area offices only): Human Resources Manager, Office of Personnel Operations, Office of the Secretary, Room 5005, 14th Street and Constitution Avenue NW, Washington, DC 20230, (202) 482-3827.

9. Regional employees of NOAA, NIST, BIS, EDA, MBDA, ITA, NTIA, to the Human Resources Manager servicing the region or state in which they are employed, as follows:

a. Central Region. For NOAA employee-obligors in the states of: Alabama, Arkansas, Florida, Georgia, Illinois, Indiana, Iowa, Kentucky, Louisiana, Michigan, Minnesota, Mississippi, Missouri, Ohio, Tennessee, and Wisconsin; for National Marine Fisheries Service employees in the states of North Carolina, South Carolina and Texas; and for National Weather Service employees in the states of Colorado, Kansas, Nebraska, North Dakota, South Dakota, and Wyoming; for employee-obligors in the BIS, EDA, MBDA, and ITA in the states of Alabama, Arkansas, Florida, Georgia, Illinois, Indiana, Iowa, Kansas, Kentucky, Louisiana, Michigan, Minnesota, Mississippi, Missouri, Nebraska, New York, Ohio, Oklahoma, Pennsylvania, South Carolina, South Dakota, Tennessee, Texas, and Wisconsin: Human Resources Manager, Central Administrative Support Center (CASC), Federal Building, Room 1736, 601 East 12th Street, Kansas City, MO 64106, (816) 426-2056.

b. Eastern Region. For NOAA employee-obligors in the states of: Connecticut, Delaware, Maine, Maryland, Massachusetts, New Hampshire, New Jersey, New York, North Carolina, Ohio, Pennsylvania, Rhode Island, South Carolina, Vermont, Virginia, West Virginia, Puerto Rico, and the Virgin Islands; for employee-obligors in the BIS, EDA, MBDA, and ITA in the states of Connecticut, Delaware, Maine, Maryland, Massachusetts, New Hampshire, New Jersey, New York, North Carolina, Pennsylvania, Rhode Island, South Carolina, Tennessee, Vermont, Virginia, Puerto Rico, and the Virgin Islands: Human Resources Manager, Eastern Administrative Support Center (EASC), NOAA EC, 200 World Trade Center, Norfolk, VA 23510, (757) 441-6517.

c. Mountain Region. For NOAA employee-obligors in the states of: Alaska, Colorado, Florida, Hawaii, Idaho, and Oklahoma, at the South Pole and in American Samoa; and for the National Weather Service employees in the states of Alabama, Arkansas, Florida, Georgia, Louisiana, Mississippi, New Mexico, Oklahoma, Tennessee, Texas and in Puerto Rico; for employee-obligors in BIS, EDA, MBDA, NIST, and NTIA in the states of Arkansas, Colorado, Hawaii, Iowa, Louisiana, Missouri, Montana, South Dakota, Texas, Utah and Wisconsin: Human Resources Office, Mountain Administrative Support Center (MASC), MC22A, 325 Broadway, Boulder, CO 80303-3328, (303) 497-3578.

d. Western Region. For NOAA employee-obligors in the states of Arizona, California, Montana, Nevada, Oregon, Utah, Washington, and the Trust Territories; for employee-obligors in BIS, EDA, MBDA, and ITA in the states of Arizona, California, Nevada, Oregon, Utah, Washington, and the Trust Territories: Human Resources Manager, Western Administrative Support Center (WASC), NOAA WC2, 7600 Sand Point Way NE, Bin C15700, Seattle, WA 89115-0070, (206) 526-6057.

10. In cases where the name of the operating unit cannot be determined: Director for Human Resources Management, U.S. Department of Commerce, 14th Street and Constitution Avenue NW, Room 5001, (202) 482-4807.

11. For employee-obligors employed by bureaus serviced by Enterprise Services (BIS, EDA, ITA, MBDA, NOAA, NTIA, and O/S): Enterprise Services Human Resource Service Center, 8400 Corporate Drive, Suite 300, Landover, MD 20785, (888) 316-2285.

Department of Defense

Unless specifically listed below, all military members (active, retired, reserve, and national guard), and all civilian employees of the Department of Defense: Defense Finance and Accounting Service, Office of General Counsel, Attn: Garnishment Law Directorate, P.O. Box 998002, Cleveland, OH 44199-8002, Fax: 216-367-3675; Toll-Free Fax: 877-622-5930, Phone: 888-332-7411.

Army

a. Civilian employees in Germany: Commander, 266th Theater Finance Corps, Attention: AEUCF-CPF, Unit 29001, APO AE 09007, 011-49-6221-57-7977/6044.

b. Non-appropriated fund civilian employees of the Army:

Post Exchanges

Department of Defense. Defense Finance and Accounting Service, Office of General Counsel, Attn: Garnishment Law Directorate, P.O. Box 998002, Cleveland, OH 44199-8002, Fax: 216-367-3675; Toll-Free Fax: 877-622-5930, Phone: 888-332-7411.

Navy

a. Military Sealift Command Pacific Mariners: Defense Finance and Accounting Service, Office of General Counsel, Attn: Garnishment Law Directorate, P.O. Box 998002, Cleveland, OH 44199-8002, Fax: 216-367-3675; Toll-Free Fax: 877-622-5930, Phone: 888-332-7411.

b. Military Sealift Command Atlantic Mariners: Defense Finance and Accounting Service, Office of General Counsel, Attn: Garnishment Law Directorate, P.O. Box 998002, Cleveland, OH 44199-8002, Fax: 216-367-3675; Toll-Free Fax: 877-622-5930, Phone: 888-332-7411.

c. Non-appropriated fund civilian employees of Navy Exchanges or related non-appropriated fund instrumentalities administered by the Navy Exchange Service Command: Chief Executive Officer, Navy Exchange Service Command, ATTN: Office of Counsel, 3280 Virginia Beach Blvd., Virginia Beach, VA 23452-5724, (757) 631-3617.

d. Non-appropriated fund civilian employees at Navy clubs, messes or recreational facilities: Chief of Navy Personnel, Director, Morale, Welfare, and Recreation Division (MWR), Washington, DC 20370, (202) 433-3005.

e. Non-appropriated fund personnel of activities that fall outside the purview of the Chief of Navy Personnel or the Chief Executive Officer of the Navy Exchange Service Command, such as locally established morale, welfare and other social and hobby clubs, such process may be served on the commanding officer of the activity concerned.

Marine Corps

Non-appropriated fund civilian employees, process may be served on the commanding officer of the activity concerned.

Air Force

a. Non-appropriated fund civilian employees of base exchanges: Army and Air Force Exchange Service, Attention: FA-F/R, P.O. Box 650038, Dallas, TX 75265-0038, (214) 312-2119.

b. Non-appropriated fund civilian employees of all other Air Force non-appropriated fund activities: Office of Legal Counsel, Air Force Services Agency, 10100 Reunion Place, Suite 503, San Antonio, TX 78216-4138, (210) 652-7051.

Department of Education

Assistant Secretary, Office of Finance and Operations, Lyndon Baines Johnson Building—2nd Floor, 400 Maryland Avenue SW, Washington, DC 20202, (202) 401-3000.

Department of Energy

Garnishment orders for civilian employees of the Department of Energy, other than those employed by the Bonneville Power Administration (BPA) and the Federal Energy Regulatory Commission (FERC), should be sent to: Defense Finance and Accounting Service, Office of General Counsel, Attn: Garnishment Law Directorate, P.O. Box 998002, Cleveland, OH 44199-8002, Fax: 216-367-3675; Toll-Free Fax: 877-622-5930, Phone: 888-332-7411.

Garnishment orders for civilian employees of BPA and FERC should be sent to the addresses below:

Bonneville Power Administration

Chief, Payroll Section DSDP, Bonneville Power Administration, Department of Energy, 905 NE 11th Avenue, Portland, OR 97232, (503) 230-3203.

Federal Energy Regulatory Commission

Payroll Office, 888 First Street NE, Washington, DC 20246, (202) 502-8990.

Department of Health and Human Services

Garnishment orders for civilian employees of the Department of Health and Human Services should be sent to: Defense Finance and Accounting Service, Office of General Counsel, Attn: Garnishment Law Directorate, P.O. Box 998002, Cleveland, OH 44199-8002, Fax: 216-367-3675; Toll-Free Fax: 877-622-5930, Phone: 888-332-7411.

Department of Homeland Security

For Department of Homeland Security Headquarters employees: Office of the Chief Human Capital Officer, HRMS/Payroll and Processing/Mailstop 0170, Department of Homeland Security, 6595 Springfield Center Drive, Springfield, VA 20598-0170.

U.S. Citizenship and Immigration Services

Financial Operations Center—Payroll, United States Citizenship and Immigration Services, 70 Kimball Avenue South Burlington, VT 05403, (802) 657-7860.

United States Coast Guard

Commanding Officer (LGL), Coast Guard Pay and Personnel Center, 444 SE Quincy Street, Topeka, KS 66683-3591, (785) 339-3595.

U.S. Customs and Border Protection

Chief, Payroll Branch, Finance and Accounting Division, 6650 Telecom Drive, Suite 100, Indianapolis, IN 46278, (317) 298-1305.

Cybersecurity and Infrastructure Security Agency

Unless an alternative means of service is specified at https://www.cisa.gov/contact-us, deliver service of process to: Office of the Chief Counsel, CISA-NGR STOP 0645 Cybersecurity and Infrastructure Security Agency, 1110 N Glebe Rd., Arlington, VA 20598-0645. To aid in prompt handling, parties are encouraged to also email a copy to CISA.OCC@cisa.dhs.gov.

Federal Emergency Management Agency

Director, Payroll and Processing Division, Office of the Chief Human Capital Officer, 500 C St. SW, Washington, DC 20472, (866) 896-8003.

Federal Law Enforcement Training Center

Chief Counsel, 1131 Chapel Crossing Road, Building 93, Glynco, GA 31524, (912) 267-244.

United States Immigration and Customs Enforcement

Office of Human Capital, Payroll Unit, 8222 N Belt Line Road, 2nd Floor, Irving, TX 75063.

United States Secret Service

U.S. Secret Service, 245 Murray Ln SW—BLDG T-5, Washington, DC 20223, (202) 406-5708.

Transportation Security Administration

TSA HR Service Center, 6363 Walker Lane, Suite #400, Alexandria, VA 22310.

Department of Housing and Urban Development

Director, Systems Support Division, Employee Service Center, 451 7th Street SW, Room 2284, Washington, DC 20410, (202) 708-0241.

Department of the Interior

Chief, Payroll Operations Division, Attn: Code D-2605, Interior Business Center, Department of the Interior, P.O. Box 272030, Denver, CO 80227-9030, (303) 969-7739.

Department of Justice

Antitrust Division

Executive Office, Personnel Section 450 5th Street NW, Room 3100, Washington, DC 20530, (202) 415-4163.

Bureau of Alcohol, Tobacco, Firearms and Explosives

Human Resources and Professional Development, 99 New York Ave. NE, Washington, DC 20226, (202) 344-5608.

Bureau of Prisons (All Facilities)

Human Resource Services Center, 346 Marine Forces Drive, Grand Prairie, TX 75051, (202) 235-7824.

Civil Division

Office of Human Resources, 1100 L Street NW, Room 2034, Washington, DC 20530, (202) 616-0353.

Civil Rights Division

Office of Human Resources and Security, 150 M Street NE, Room 6.1408, Washington, DC 20530, (202) 514-3934.

Criminal Division

Office of Administration, 1400 New York Ave. NW, 6th Floor, Room 629, Washington, DC 20005, (202) 514-0361.

Drug Enforcement Administration

Compensation, Benefits and Processing Section, 8701 Morrissette Drive, HR/HRS, Springfield, VA 22152, (571) 776-2821.

Environment & Natural Resources Division

150 M Street NE, Room 2.1142, Washington, DC 20530, (202) 616-3359.

Executive Office for Immigration Review

Office of Human Resources, 5107 Leesburg Pike, 19th Floor, (703) 756-8061.

Executive Office for United States Attorneys

Human Resources, 175 N Street NE, Washington, DC 20530, (202) 252-5324.

Federal Bureau of Investigations

Human Resources Division, Payroll Management Unit, 935 Pennsylvania Avenue NW, Room 10997, Washington, DC 20535, (202) 324-3333.

Justice Management Division (for All DOJ Components Not Otherwise Listed)

JMD Human Resources Operations/Payroll, 145 N Street NE, Room 9W.1425, Washington, DC 20530, (202) 616-9008.

Office of Justice Programs

Office of Administration, Human Resources Division, 810 7th Street NW, Room 3300, Washington, DC 20531, (202) 307-0730.

Office of the Inspector General

M&P Office of Human Resources, 150 M Street, Suite 11.000, Washington, DC 20530, (202) 616-4522.

Tax Division

150 M Street NE, Suite 1.1330, Washington, DC 20530, (202) 616-1762.

U.S. Marshals Service

Human Resources Division, Office of Compensation, Benefits, and Processing, CG3 4th Floor, Room 4030, Arlington, VA 22202, (703) 740-1714.

Department of Labor

1. Payments to employees of the Department of Labor: Division Director, Office of Compensation and Processing, Department of Labor, 200 Constitution Avenue NW, N-4654, Washington, DC 20210, (202) 693-6856.

2. Process relating to those exceptional cases where there is money due and payable by the United States under the Longshoreman's Act should be directed to the: Associate Director for Longshore and Harbor Worker's Compensation, Department of Labor, 200 Constitution Avenue NW, C-3516, Washington, DC 20210, (202) 219-8721.

3. Process relating to benefits payable under the Federal Employees' Compensation Act should be directed to the Office of Workers' Compensation Programs:

DFELHWC—FECA

Fiscal Operations, Office of Workers' Compensation Programs, 2300 Main Street, Suite 10128, Kansas City, MO 64108-2416, (202) 513-6860.

Department of State

The Executive Office, Office of the Legal Adviser, Suite 5.600, Department of State, 600 19th Street NW, Washington, DC 20522.

Department of Transportation

Office of the Secretary

Assistant General Counsel for Litigation and Enforcement, C-30, U.S. Department of Transportation, 1200 New Jersey Avenue SE, Room W94-310, Washington, DC 20590, (202) 366-4713.

Federal Aviation Administration

Chief, Payroll Operations Division, Attn: Code D-2605, Interior Business Center, Department of the Interior, P.O. Box 272030, Denver, CO 80227-9030, (303) 969-7739.

Department of the Treasury

(1) Departmental Offices

Office of Human Resources, Treasury Department, 1500 Pennsylvania Avenue NW, Washington, DC 20220, (202) 622-0450.

(2) Office of Foreign Assets Control

Chief Counsel, Second Floor, Treasury Annex/Freedman's Bank Building, 1500 Pennsylvania Avenue NW, Washington, DC 20220, (202) 622-2410.

(3) Bureau of the Fiscal Service

Human Capital Division, Room A4-H, Bureau of the Fiscal Service, P.O. Box 1328, Parkersburg WV 26106-1328, (304) 480-8303.

(4) Internal Revenue Service

Austin Payroll Center, P.O. Box 9002, Beckley, WV 25802-9002, (304) 254-5940.

(5) Alcohol and Tobacco Tax and Trade Bureau

Bureau of the Fiscal Service, Attention: Accounting Services Branch 2 Avery Street A3-G, P.O. Box 1328, Parkersburg, WV 26106-1328.

(6) Financial Crimes Enforcement Network (FinCEN)

Office of Human Resources, 2070 Chain Bridge Road, G99, Vienna, VA 22182, (703) 905-3591.

(7) Office of the Inspector General

Office of Human Resources, 875 15th Street NW, Suite 200, Washington, DC 20220, 202-927-5200.

(8) Special Inspector General for Pandemic Recovery

2051 Jamieson Avenue, Suite 600, Alexandria, VA 22314, (202) 695-0753.

(9) Special Inspector General for the Troubled Asset Relief Program (SIGTARP)

HR Office, 14509 Delcastle Dr., Bowie, MD 20721, (202) 538-4647, SIGTARPCareers@treasury.gov.

(10) Treasury Inspector General for Tax Administration

Bureau of Fiscal Service, Administrative Resource Center, Room A2-A, P.O. Box 1328, Parkersburg, WV 26106-1328, (304) 480—8000 Option 4, tigtaHRProcessing@fiscal.treasury.gov, Fax: (304) 480—8295.

(11) Bureau of Engraving & Printing

Chief Counsel, 14th & C Streets NW, Room 306M, Washington, DC 20228, (202) 874-2500.

(12) Office of the Comptroller of the Currency

Washington Headquarters

Director of Litigation, Chief Counsel's Office, Office of the Comptroller of the Currency, 400 7th Street SW, Washington, DC 20219-0001, (202) 649-5400.

District Offices

District Counsel-Northeast, Office of the Comptroller of the Currency, 340 Madison Avenue, 5th Floor, New York, NY 10173, (212) 790-4000.

District Counsel-Southern, Office of the Comptroller of the Currency, 500 North Akard Street, Suite 1600, Dallas, TX 75201-3323, (214) 720-0656.

District Counsel-Central, Office of the Comptroller of the Currency, 425 South Financial Place, Suite 1700, Chicago, IL 60605-1073, (312) 360-8800.

District Counsel-Western, Office of the Comptroller of the Currency, 1050 17th Street, Suite 1500, Denver, CO 80265-1050, (720) 475-7600.

(13) United States Mint

Chief Counsel, 801 Ninth Street NW, Washington, DC 20220, (202) 756-6468.

Department of Veterans Affairs

Garnishment orders for civilian employees of the Department of Veterans Affairs should be sent to: Defense Finance and Accounting Service, Office of General Counsel, Attn: Garnishment Law Directorate, P.O. Box 998002, Cleveland, OH 44199-8002, Fax: 216-367-3675; Toll-Free Fax: 877-622-5930, Phone: 888-332-7411 (Those parties seeking offset of Veteran benefit payments pursuant to court and/or child support enforcement orders should contact the Veterans Benefits Administration at 1-800-827-1000 or https.www.benefits.va.gov/benefits/offices.asp for the appropriate service address of the Veterans Affairs Regional Office corresponding to the debtor's legal domicile).

Social Security Administration

1. For the garnishment of the remuneration of employees: Garnishment Agent, Office of the General Counsel, Room 611, Altmeyer Building, 6401 Security Blvd., Baltimore, MD 21235, (410) 965-4202.

Effective March 30, 1998, garnishment orders for employees of the Social Security Administration should be sent to: Chief, Payroll Operations Division, Attn.: Code D-2640, Bureau of Reclamation, Administrative Services Center, Department of the Interior, P.O. Box 272030, Denver, CO 80227-9030, (303) 969-7739.

2. For the garnishment of benefits under Title II of the Social Security Act, legal process may be served on the office manager at any Social Security District or Branch Office. The addresses and telephone numbers of Social Security District and Branch Offices may be found in the local telephone directory.

II. Agencies

(Unless otherwise indicated below, all agencies of the executive branch shall be subject to service of legal process brought for the enforcement of an individual's obligation to provide child support and/or make alimony payments where such service is sent by certified or registered mail, return receipt requested, or by personal service, upon the head of the agency.)

Agency for International Development

For employees of the Agency for International Development: Chief, Payroll Division, United States Agency for International Development, 1300 Pennsylvania Avenue NW, Washington, DC 20523, (202) 916-4405, (202) 916-4956 (fax), payroll@usaid.gov.

Central Intelligence Agency

Office of Personnel Security, Attn: Chief, Special Activities Staff, Washington, DC 20505, (703) 482-1217.

Commission on Civil Rights

Solicitor, Commission on Civil Rights, 624 9th Street NW, Suite 632, Washington, DC 20425, (202) 376-8351.

Commodity Futures Trading Commission

Director, Office of Personnel, Commodity Futures Trading Commission, Three Lafayette Center, Room 7200, 1155 21st Street NW, Washington, DC 20581, (202) 418-5003.

Consumer Financial Protection Bureau

General Counsel, Consumer Financial Protection Bureau, 1700 G Street NW, Washington, DC 20552, (202) 435-5206.

Consumer Product Safety Commission

(Mail Service), General Counsel, Consumer Product Safety Commission, Washington, DC 20207-0001, (202) 504-0980.

(Personal Service), General Counsel, Consumer Product Safety Commission, 4330 East-West Highway, Room 700, Bethesda, MD 20814-4408, (301) 504-0980.

Council of the Inspectors General on Integrity and Efficiency

Interior Business Center, Department of the Interior, Chief, Payroll Operations Division, ATTN: D-2640, P.O. Box 272030, Denver, CO 80227-9030, (303) 969-7739.

Environmental Protection Agency

Department of the Interior, Interior Business Center, Debt Management Branch Attention: D-2640, 7201 W Mansfield Avenue, Denver, CO 80235, (866) 367-1272.

Export-Import Bank of the United States

General Counsel, Export-Import Bank of the United States, 811 Vermont Avenue NW, Room 947, Washington, DC 20571, (202) 566-8334.

Equal Employment Opportunity Commission

Director, Finance and Systems Services Division, Room 4SE09E, 131 M Street NE, Washington, DC 20507, (202) 921-2869.

Farm Credit Administration

Chief, Fiscal Management Division, Farm Credit Administration, 1501 Farm Credit Drive, McLean, VA 22102-5090, (703) 883-4122.

Federal Deposit Insurance Corporation

Counsel, Federal Deposit Insurance Corporation, 550 17th Street NW, Washington, DC 20429, (202) 898-3686.

Federal Election Commission

Accounting Officer, Federal Election Commission, 999 E Street NW, Washington, DC 20463, (202) 376-5270.

Federal Labor Relations Authority

Director of Personnel, Federal Labor Relations Authority, 607 14th Street NW, Suite 430, Washington, DC 20424, (202) 482-6690.

Federal Maritime Commission

Director of Personnel or Deputy Director of Personnel, Federal Maritime Commission, 800 North Capitol Street NW, Washington, DC 20573, (202) 523-5773.

Federal Mediation and Conciliation Service

General Counsel, Federal Mediation and Conciliation Service, 2100 K Street NW, Washington, DC 20427, (202) 653-5305.

Federal Retirement Thrift Investment Board

Payments to Board employees: Director of Administration, Federal Retirement Thrift Investment Board, 1250 H Street NW, Washington, DC 20005, (202) 942-1670.

Benefits from the Thrift Savings Fund: General Counsel, Federal Retirement Thrift Investment Board, 1250 H Street NW, Washington, DC 20005, (202) 942-1662.

Federal Trade Commission

Garnishment orders for employees of the Federal Trade Commission should be sent to: Chief, Payroll Operations Division, Attn.: Code D-2605, Bureau of Reclamation, Administrative Services Center, Department of the Interior, 7201 West Mansfield Avenue, Denver, CO 80227-9030, (303) 969-7739.

General Services Administration

Director, Kansas City Finance Division—6BC, 1500 East Bannister Road—Room 1107, Kansas City, MO 64131, (816) 926-7625.

Harry S. Truman Scholarship Foundation

Chief, Payroll Operations Division, Attention: Mail Code 2640, National Business Center, Department of the Interior, P.O. Box 272030, Denver, CO 80227-9030, (303) 969-7739.

Institute of Peace

Garnishment orders for employees of the Institute of Peace should be sent to: General Services Administration, Director, Finance Division—(6BC), 1500 E Bannister Road, Room 1107, Kansas City, MO 64131, (816) 926-1666.

International Trade Commission

Director, Office of Finance and Budget, 500 E Street SW, Suite 316, Washington, DC 20436, (202) 205-2678.

Merit Systems Protection Board

Director, Financial and Administrative Management Division, 1615 M Street NW, Washington, DC 20419, (202) 653-7263.

National Aeronautics and Space Administration

Interior Business Center, Department of the Interior, Chief, Payroll Operations Division, ATTN: D-2640, P.O. Box 272030, Denver, CO 80227-9030, (303) 969-7739.

National Archives and Records Administration

General Counsel (NGC), National Archives and Records Administration, Suite 3110, 8601 Adelphi Road, College Park, MD 20740, 301-837-1750.

National Capital Planning Commission

Administrative Officer, National Capital Planning Commission, 1325 G Street NW, Washington, DC 20576, (202) 724-0170.

National Credit Union Administration

General Counsel, Office of General Counsel, 1775 Duke Street, Alexandria, VA 22314-3428, (703) 518-6540.

National Endowment for the Arts

General Counsel, National Endowment for the Arts, 1100 Pennsylvania Avenue NW, Room 522, Washington, DC 20506, (202) 682-5418.

National Endowment for the Humanities

General Counsel, National Endowment for the Humanities, Room 530, Old Post Office, 1100 Pennsylvania Avenue NW, Washington, DC 20506, (202) 606-8322.

National Labor Relations Board

Director of Personnel, National Labor Relations Board, 1099 14th Street NW, Room 6700, Washington, DC 20570-0001, (202) 273-3904.

National Mediation Board

Administrative Officer, National Mediation Board, 1301 K Street NW, Suite 250 East, Washington, DC 20572, (202) 523-5950.

National Railroad Adjustment Board

Staff Director/Grievances, National Railroad Adjustment Board, 175 West Jackson Boulevard, Chicago, IL 60604, (312) 886-7300.

National Science Foundation

Human Resources Management, National Science Foundation, 2415 Eisenhower Avenue, Alexandria, VA 22314, (703) 292-5111.

National Security Agency

General Counsel, National Security Agency, 9800 Savage Road, Ft. Meade, MD 20755-6000, (301) 688-6054.

National Transportation Safety Board

Director, Personnel and Training Division, National Transportation Safety Board, ATTN: AD-30, 800 Independence Avenue SW, Washington, DC 20594, (202) 382-6718.

Navajo and Hopi Indian Relocation Commission

Attorney, Navajo and Hopi Indian Relocation Commission, 201 East Birch, Room 11, P.O. Box KK, Flagstaff, AZ 86002, (602) 779-2721.

Nuclear Regulatory Commission

Comptroller, Nuclear Regulatory Commission, Washington, DC 20555, (301) 415-0667.

Office of Personnel Management

Payments to OPM employees: Human Resources, Office of Personnel Management, 1900 E Street NW, Washington, DC 20415.

Payments of retirement benefits under the Civil Service Retirement System and the Federal Employees Retirement System: Court Ordered Benefits Branch, ATTN: Garnishments, Office of Personnel Management, P.O. Box 17, Washington, DC 20044-0017, (202) 606-0222.

Overseas Private Investment Corporation

Director, Human Resources Management, Overseas Private Investment Corporation, 1100 New York Avenue NW, Washington, DC 20527, (202) 336-8524.

Panama Canal Commission

Secretary, Office of the Secretary, International Square, 1825 I Street NW, Suite 1050, Washington, DC 20006-5402, (202) 634-6441.

Pension Benefit Guaranty Corporation

Associate General Counsel, 445 12th Street SW, Washington, DC 20024, (202) 229-4400.

Presidio Trust

Chief, Payroll Operations Division, Attention: Mail Code 2640, National Business Center, Department of the Interior, P.O. Box 272030, Denver, CO 80227-9030, (303) 969-7739.

Railroad Retirement Board

General Counsel, 844 North Rush Street, Chicago, IL 60611, (312) 751-4948.

Securities and Exchange Commission

Branch Chief, Employee Services, Office of Human Resources, Securities and Exchange Commission, 100 F Street NE, Washington, DC 20549, (202) 551-7500.

Selective Service System

General Counsel, 1515 Wilson Boulevard, Arlington, VA 22209-2425, (703) 235-2050.

Small Business Administration

District Director, Birmingham District Office, 908 South 20th Street, Birmingham, AL 35205, (205) 254-1344.

District Director, Anchorage District Office, 1016 West 6th Avenue, Anchorage, AK 99501, (907) 271-4022.

District Director, Phoenix District Office, 3030 North Central Avenue, Phoenix, AZ 85012, (602) 261-3611.

District Director, Little Rock District Office, 611 Gaines Street, Little Rock, AR 72201, (501) 378-5871.

District Director, Los Angeles District Office, 350 S Figueroa Street, Los Angeles, CA 90071, (213) 688-2956.

District Director, San Diego District Office, 880 Front Street, San Diego, CA 92188, (714) 291-5440.

District Director, San Francisco District Office, 211 Main Street, San Francisco, CA 94105, (415) 556-7490.

District Director, Denver District Office, 721 19th Street, Denver, CO 80202, (303) 837-2607.

District Director, Hartford District Office, One Financial Plaza, Hartford, CT 06106, (203) 244-3600.

District Director, Washington District Office, 1030 15th Street NW, Washington, DC 20417, (202) 655-4000.

District Director, Jacksonville District Office, 400 West Bay Street, Jacksonville, FL 32202, (904) 791-3782.

District Director, Miami District Office, 222 Ponce de Leon Blvd., Coral Gables, FL 33134, (305) 350-5521.

District Director, Atlanta District Office, 1720 Peachtree Street NW, Atlanta, GA 30309, (404) 347-2441.

District Director, Honolulu District Office, 300 Ala Moana Blvd., Honolulu, HI 96850, (808) 546-8950.

District Director, Boise District Office, 1005 Main Street, Boise, ID 83701, (208) 384-1096.

District Director, Des Moines District Office, 210 Walnut Street, Des Moines, IA 50309, (515) 284-4433.

District Director, Chicago District Office, 219 South Dearborn Street, Chicago, IL 60604, (312) 353-4528.

District Director, Indianapolis District Office, 575 N Pennsylvania Street, Indianapolis, IN 46204, (317) 269-7272.

District Director, Wichita District Office, 110 East Waterman Street, Wichita, KS 67202, (316) 267-6571.

District Director, Louisville District Office, 600 Federal Place, Louisville, KY 40201, (502) 582-5978.

District Director, New Orleans District Office, 1001 Howard Avenue, New Orleans, LA 70113, (504) 589-6685.

District Director, Augusta District Office, 40 Western Avenue, Augusta, ME 04330, (207) 622-6171.

District Director, Baltimore District Office, 8600 LaSalle Road, Towson, MD 21204, (301) 862-4392.

District Director, Boston District Office, 150 Causeway Street, Boston, MA 02114, (617) 223-2100.

District Director, Detroit District, 477 Michigan Avenue, Detroit, MI 48116, (313) 226-6075.

District Director, Minneapolis District Office, 12 South 6th Street, Minneapolis, MN 55402, (612) 725-2362.

District Director, Jackson District Office, 101 West Capitol Street, Suite 400, Jackson, MS 39201, (601) 965-5371.

District Director, Kansas City District Office, 1150 Grande Avenue, Kansas City, MO 64106, (816) 374-3416.

District Director, St. Louis District Office, One Mercantile Center, St. Louis, MO 63101, (314) 425-4191.

District Director, Helena District Office, 301 South Park Avenue, Helena, MT 59601, (406) 449-5381.

District Director, Omaha District Office, 19th & Farnam Streets, Omaha, NE 68102, (404) 221-4691.

District Director, Las Vegas District Office, 301 East Stewart Avenue, Las Vegas, NV 89101, (702) 385-6611.

District Director, Concord District Office, 55 Pleasant Street, Concord, NH 03301, (603) 224-4041.

District Director, Newark District Office, 970 Broad Street, Newark, NJ 07102, (201) 645-2434.

District Director, Albuquerque District Office, 5000 Marble Avenue NE, Albuquerque, NM 87110, (505) 766-3430.

District Director, New York District Office, 26 Federal Plaza, New York, NY 10007, (212) 264-4355.

District Director, Syracuse District Office, 100 South Clinton Street, Syracuse, NY 13260, (315) 423-5383.

District Director, Charlotte District Office, 230 South Tryon Street, Charlotte, NC 28202, (704) 371-6111.

District Director, Fargo District Office, 657 2nd Avenue North, Fargo, ND 58108, (701) 237-5771.

District Director, Sioux Falls District Office, 101 South Main Avenue, Sioux Falls, SD 57102, (605) 336-2980.

District Director, Cleveland District Office, 1240 East 9th Street, Cleveland, OH 44199, (216) 522-4180.

District Director, Columbus District Office, 85 Marconi Boulevard, Columbus, OH 43215, (614) 469-6860.

District Director, Oklahoma City District Office, 200 NW 5th Street, Oklahoma City, OK 73102, (405) 231-4301.

District Director, Portland District Office, 1220 SW Third Avenue, Portland, OR 97204, (503) 221-2682.

District Director, Philadelphia District Office, 231 St. Asaphs Road, Bala Cynwyd, PA 19004, (215) 597-3311.

District Director, Pittsburgh District Office, 1000 Liberty Avenue, Pittsburgh, PA 15222, (412) 644-2780.

District Director, Hato Rey District Office, Chardon & Bolivia Streets, Hato Rey, PR 00918, (809) 753-4572.

District Director, Providence District Office, 57 Eddy Street, Providence, RI 02903, (401) 528-4580.

District Director, Columbia District Office, 1835 Assembly Street, Columbia, SC 29201, (803) 765-5376.

District Director, Nashville District Office, 404 James Robertson Parkway, Nashville, TN 37219, (615) 251-5881.

District Director, Dallas District Office, 1100 Commerce Street, Dallas, TX 75242, (214) 767-0605.

District Director, Houston District Office, 500 Dallas Street, Houston, TX 77002, (713) 226-4341.

District Director, Lower Rio Grande Valley District Office, 222 East Van Buren Street, Harlingen, TX 78550, (512) 423-4534.

District Director, Lubbock District Office, 1205 Texas Avenue, Lubbock, TX 79401, (806) 762-7466.

District Director, San Antonio District Office, 727 East Durango Street, San Antonio, TX 78206, (512) 229-6250.

District Director, Salt Lake City District Office, 125 South State Street, Salt Lake City, UT 84138, (314) 425-5800.

District Director, Montpelier District Office, 87 State Street, Montpelier, VT 05602, (802) 229-0538.

District Director, Richmond District Office, 400 North 8th Street, Richmond, VA 23240, (804) 782-2617.

District Director, Seattle District Office, 915 Second Avenue, Seattle, WA 98174, (206) 442-5534.

District Director, Spokane District Office, West 920 Riverside Avenue, Spokane, WA 99210, (509) 456-5310.

District Director, Clarksburg District Office, 109 North 3rd Street, Clarksburg, WV 26301, (304) 623-5631.

District Director, Madison District Office, 212 East Washington Avenue, Madison, WI 53703, (608) 264-5261.

District Director, Casper District Office, 100 East B Street, Casper, WY 82602, (307) 265-5266.

Tennessee Valley Authority

Payments to TVA employees: Chairman, Board of Directors, Tennessee Valley Authority, 400 West Summit Hill Drive, Knoxville, TN 37902, (423) 632-2101.

Payments of retirement benefits under the TVA Retirement System: Chairman, Board of Directors, TVA Retirement System, 500 West Summit Hill Drive, Knoxville, TN 37902, (423) 632-0202.

Trade and Development Agency

Effective August 3, 1998, garnishment orders for employees of the United States Trade and Development Agency should be sent to: Chief, Payroll Operations Division, Attn.: Code D-2640, Bureau of Reclamation, Administrative Services Center, Department of the Interior, P.O. Box 272030, Denver, CO 80227-9030, (303) 969-7739.

United States Soldiers' & Airmen's Home

Defense Finance and Accounting Service, Office of General Counsel, Attn: Garnishment Law Directorate, P.O. Box 998002, Cleveland, OH 44199-8002, Fax: 216-367-3675; Toll-Free Fax: 877-622-5930, Phone: 888-332-7411.

III. United States Postal Service and Postal Regulatory Commission

United States Postal Service and Postal Regulatory Commission

Manager, Payroll Operations, 2825 Lone Oak Parkway, Eagan, MN 55121-0650, (651) 406-3600.

IV. The District of Columbia, American Samoa, Guam, and the Virgin Islands

The District of Columbia

Assistant City Administrator for Financial Management, The District Building, Room 412, 14th Street and Pennsylvania Avenue NW, Washington, DC 20004, (202) 727-6979.

American Samoa

Director of Administrative Service, American Samoa government, Pago Pago, American Samoa 96799, (684) 633-4155.

Guam

Attorney General, P.O. Box DA, Agana, Guam 96910, 472-6841 (Country Code 671).

The Virgin Islands

Attorney General, P.O. Box 280, St. Thomas, VI 00801, (809) 774-1163.

V. Instrumentality

Smithsonian Institution

For service of process in garnishment proceedings for child support and/or alimony of present Smithsonian Institution employees: Controller, Office of Finance and Accounting, Smithsonian Institution, P.O. Box 37012 MRC 1203, Washington, DC 20013-7012, (202) 633-7250

For service of process in garnishment proceedings for child support and/or alimony involving retirement annuities of former trust fund employees of the Smithsonian Institution: General Counsel, Teachers Insurance and Annuity Association of America, College Retirement Equity Fund (TIAA/CREF), 730 Third Avenue, New York, NY 10017, (212) 490-9000

VI. Executive Office of the President

Executive Office of the President

Garnishment orders for civilian employees of the Executive Office of the President should be sent to: Defense Finance and Accounting Service, Office of General Counsel, Attn: Garnishment Law Directorate, P.O. Box 998002, Cleveland, OH 44199-8002, Fax: 216-367-3675; Toll-Free Fax: 877-622-5930, Phone: 888-332-7411.

PART 582—COMMERCIAL GARNISHMENT OF FEDERAL EMPLOYEES' PAY

3. The authority citation for part 582 continues to read as follows:

Authority: 5 U.S.C. 5520a; 15 U.S.C. 1673; E.O. 12897; Sec. 582.102 also issued under 5 U.S.C. 8336a and 8412a.

4. Appendix A to part 582 is revised to read as follows:

Appendix A to Part 582—List of Agents Designated To Accept Legal Process

Note: The agents designated to accept legal process are listed in appendix A to part 581 of this chapter. This appendix provides listings only for those executive agencies where the designations differ from those found in appendix A to part 581.

I. Departments

Department of Defense. Defense Finance and Accounting Service, Office of General Counsel, Attn: Garnishment Law Directorate, P.O. Box 998002, Cleveland, OH 44199-8002, Fax: 216-367-3675; Toll-Free Fax: 877-622-5930, Phone: 888-332-7411.

Agents for receipt of all legal process for all Department of Defense civilian employees except where another agent has been designated as set forth below.

For requests that apply to employees of the Army and Air Force Exchange Service or to civilian employees of the Defense Contract Audit Agency (DCAA) and the Defense Logistics Agency (DLA) who are employed outside the United States: See appendix A to part 581 of this chapter.

For requests that apply to civilian employees of the Army Corps of Engineers, the National Security Agency, the Defense Intelligence Agency, and non-appropriated fund civilian employees of the Air Force, serve the following offices:

Civilian employees of the Army Corps of Engineers. Defense Finance and Accounting Service, Office of General Counsel, Attn: Garnishment Law Directorate, P.O. Box 998002, Cleveland, OH 44199-8002, Fax: 216-367-3675; Toll-Free Fax: 877-622-5930, Phone: 888-332-7411.

Army Non-Appropriated Fund Employees in Europe. Defense Finance and Accounting Service, Office of General Counsel, Attn: Garnishment Law Directorate, P.O. Box 998002, Cleveland, OH 44199-8002, Fax: 216-367-3675; Toll-Free Fax: 877-622-5930, Phone: 888-332-7411.

National Security Agency. General Counsel, National Security Agency/Central Security Service, 9800 Savage Rd., Ft. George G. Meade, MD 20755-6000, (301) 688-6705.

Defense Intelligence Agency. Office of General Counsel, Defense Intelligence Agency, Pentagon, 2E238, Washington, DC 20340-1029, (202) 697-3945.

Air Force Non-Appropriated Fund Employees. Office of General Counsel, Air Force Services Agency, 10100 Reunion Place, Suite 503, San Antonio, TX 78216-4138, (210) 652-7051.

For civilian employees of the Army, Navy and Marine Corps who are employed outside the United States, serve the following offices:

Army Civilian Employees in Europe. Commander, 266th Theater Finance Command, ATTN: AEUCF-CPF, APO AE 09007-0137, 011-49-6221-57-6303/2136, DSN 370-6303/2136.

Army Civilian Employees in Japan. Commander, U.S. Army Finance and Accounting Office, Japan, ATTN: APAJ-RM-FA-E-CP, Unit 45005, APO AP 96343-0087, DSN 233-3362.

Army Civilian Employees in Korea. Commander, 175th Finance and Accounting Office, Korea, ATTN: EAFC-FO (Civilian Pay), Unit 15300, APO AP 96205-0073, 011-822-791-4599, DSN 723-4599.

Army Civilian Employees in Panama. DCSRM Finance & Accounting Office, ATTN: SORM-FAP-C, Unit 7153, APO AA 34004-5000, 011-507-287-6766, DSN 287-5312.

Navy and Marine Corps Civilian Employees Overseas. Director of the Office of Civilian Personnel Management, Office of Counsel, Office of Civilian Personnel Management (OCPM-OL), Department of the Navy, 800 N. Quincy Street, Arlington, VA 22203-1990, (703) 696-4717.

Navy and Marine Corps Non-Appropriated Fund Employees. The agents are the same as those designated to receive garnishment orders of Navy and Marine Corps non-appropriated fund personnel for the collection of child support and alimony, published at 5 CFR part 581, appendix A, except as follows:

For non-civil service civilian personnel of Marine Corps non-appropriated fund instrumentalities, process may be served on the Commanding Officer of the employing activity, ATTN: Morale, Welfare and Recreation Director.

Department of the Interior. Chief, Payroll Operations Division, Attn: Code: D-2605, Bureau of Reclamation, Administrative Service Center, Department of the Interior, P.O. Box 272030, 7201 West Mansfield Avenue, Denver, CO 80227-9030, (303) 969-7739.

[FR Doc. 2023-10496 Filed 5-18-23; 8:45 am]

BILLING CODE 6325-48-P